DEPARTMENT OF ENERGY

Federal Energy Regulatory Commission

Combined Notice of Filings #1

Take notice that the Commission received the following electric corporate filings:

Docket Numbers: EC16-152-000.

Applicants: Little Elk Wind Project, LLC.

Description: Application for Authorization Under Section 203 of the Federal Power Act, Request for Expedited Consideration and Confidential Treatment of Little Elk Wind Project, LLC.

Filed Date: 7/18/16.

Accession Number: 20160718-5065.

Comments Due: 5 p.m. ET 8/8/16.

Take notice that the Commission received the following electric rate filings:

Docket Numbers: ER10-2432-010.

Applicants: Bayonne Plant Holding, L.L.C.

Description: Compliance filing: Bayonne Plant Holding, L.L.C. Informational Filing in ER10-2432 to be effective 10/1/2016.

Filed Date: 7/15/16.

Accession Number: 20160715-5080.

Comments Due: 5 p.m. ET 8/5/16.

Docket Numbers: ER10-2435-010.

Applicants: Camden Plant Holding, L.L.C.

Description: Compliance filing: Camden Plant Holding, L.L.C. Informational Filing in ER10-2435 to be effective 10/1/2016.

Filed Date: 7/15/16.

Accession Number: 20160715-5081.

Comments Due: 5 p.m. ET 8/5/16.

Docket Numbers: ER10-2442-010.

Applicants: Elmwood Park Power, LLC.

Description: Compliance filing: Elmwood Park Power, LLC Informational Filing in ER10-2442 to be effective 10/1/2016.

Filed Date: 7/15/16.

Accession Number: 20160715-5082.

Comments Due: 5 p.m. ET 8/5/16.

Docket Numbers: ER10-2444-010.

Applicants: Newark Bay Cogeneration Partnership, L.P.

Description: Compliance filing: Newark Bay Cogeneration Partnership, L.P. Informational Filing in ER10-2444 to be effective 10/1/2016.

Filed Date: 7/15/16.

Accession Number: 20160715-5092.

Comments Due: 5 p.m. ET 8/5/16.

Docket Numbers: ER10-2449-008.

Applicants: York Generation Company LLC.

Description: Compliance filing: York Generation Company LLC Informational Filing in ER10-2449 to be effective 10/1/2016.

Filed Date: 7/15/16.

Accession Number: 20160715-5104.

Comments Due: 5 p.m. ET 8/5/16.

Docket Numbers: ER10-2633-026; ER10-2570-026; ER10-2717-026; ER10-3140-026; ER13-55-016.

Applicants: Birchwood Power Partners, L.P., Shady Hills Power Company, L.L.C., EFS Parlin Holdings, LLC, Inland Empire Energy Center, LLC, Homer City Generation, L.P.

Description: Notice of Non-Material Change in Status of the GE Companies, et al.

Filed Date: 7/15/16.

Accession Number: 20160715-5227.

Comments Due: 5 p.m. ET 8/5/16.

Docket Numbers: ER10-3272-002.

Applicants: Lower Mount Bethel Energy, LLC.

Description: Compliance filing: Lower Mount Bethel Energy, LLC Informational Filing in ER10-3272 to be effective 10/1/2016.

Filed Date: 7/15/16.

Accession Number: 20160715-5085.

Comments Due: 5 p.m. ET 8/5/16.

Docket Numbers: ER15-1029-002.

Applicants: Chubu TT Energy Management Inc.

Description: Notice of Change in Status of Chubu TT Energy Management Inc.

Filed Date: 7/15/16.

Accession Number: 20160715-5242.

Comments Due: 5 p.m. ET 8/5/16.

Docket Numbers: ER16-277-004.

Applicants: Talen Energy Marketing, LLC.

Description: Compliance filing: Talen Energy Marketing Informational Filing in ER16-277 to be effective 10/1/2016.

Filed Date: 7/15/16.

Accession Number: 20160715-5095.

Comments Due: 5 p.m. ET 8/5/16.

Docket Numbers: ER16-1456-001.

Applicants: Talen Energy Marketing, LLC.

Description: Compliance filing: Talen Energy Marketing Informational Filing in ER16-1456 to be effective 10/1/2016.

Filed Date: 7/15/16.

Accession Number: 20160715-5097.

Comments Due: 5 p.m. ET 8/5/16.

Docket Numbers: ER16-1462-002.

Applicants: Palmco Power DE LLC.

Description: Tariff Amendment: Palmco Power DE FERC Electric Tariff to be effective 5/19/2016.

Filed Date: 7/18/16.

Accession Number: 20160718-5056; 20160718-5086.

Comments Due: 5 p.m. ET 8/8/16.

Docket Numbers: ER16-1464-002.

Applicants: Palmco Power ME, LLC.

Description: Tariff Amendment: Palmco Power ME FERC Electric Tariff to be effective 5/20/2016.

Filed Date: 7/18/16.

Accession Number: 20160718-5042; 20160718-5083.

Comments Due: 5 p.m. ET 8/8/16.

Docket Numbers: ER16-1465-002.

Applicants: Palmco Power MI LLC.

Description: Tariff Amendment: Palmco Power MI FERC Electric Tariff to be effective 5/20/2016.

Filed Date: 7/18/16.

Accession Number: 20160718-5043; 20160718-5085.

Comments Due: 5 p.m. ET 8/8/16.

Docket Numbers: ER16-1466-002.

Applicants: Palmco Power NH LLC.

Description: Tariff Amendment: Palmco Power NH FERC Electric Tariff to be effective 5/20/2016.

Filed Date: 7/18/16.

Accession Number: 20160718-5046; 20160718-5087.

Comments Due: 5 p.m. ET 8/8/16.

Docket Numbers: ER16-1467-002.

Applicants: Palmco Power VA LLC.

Description: Tariff Amendment: Palmco Power VA FERC Electric Tariff to be effective 5/20/2016.

Filed Date: 7/18/16.

Accession Number: 20160718-5036; 20160718-5088.

Comments Due: 5 p.m. ET 8/8/16.

Docket Numbers: ER16-1468-002.

Applicants: Palmco Power RI LLC.

Description: Tariff Amendment: Palmco Power RI FERC Electric Tariff to be effective 5/20/2016.

Filed Date: 7/18/16.

Accession Number: 20160718-5050; 20160718-5090.

Comments Due: 5 p.m. ET 8/8/16.

Docket Numbers: ER16-1485-002.

Applicants: Midcontinent Independent System Operator, Inc.

Description: Tariff Amendment: 2016-07-15_MI-ONT PARS MISO-PJM JOA 2nd Amendment to be effective 7/28/2016.

Filed Date: 7/15/16.

Accession Number: 20160715-5164.

Comments Due: 5 p.m. ET 8/5/16.

Docket Numbers: ER16-1788-002.

Applicants: LE Energy, LLC.

Description: Tariff Amendment: FERC Electric MBR Tariff Application to be effective 8/1/2016.

Filed Date: 7/18/16.

Accession Number: 20160718-5009; 20160718-5069.

Comments Due: 5 p.m. ET 8/8/16.

Docket Numbers: ER16-1793-001.

Applicants: Midcontinent Independent System Operator, Inc.

Description: Tariff Amendment: 2016-07-13_CMP Baseline Filing—Attachment LL Amendment to be effective 7/25/2016.

Filed Date: 7/15/16.

Accession Number: 20160715-5169.

Comments Due: 5 p.m. ET 8/5/16.

Docket Numbers: ER16-1794-001.

Applicants: Midcontinent Independent System Operator, Inc.

Description: Tariff Amendment: 2016-07-15_CMP Baseline Filing—RS 8 MISO-Manitoba Hydro SOA Amendment to be effective 7/25/2016.

Filed Date: 7/15/16.

Accession Number: 20160715-5177.

Comments Due: 5 p.m. ET 8/5/16.

Docket Numbers: ER16-1795-001.

Applicants: Midcontinent Independent System Operator, Inc.

Description: Tariff Amendment: 2016-07-15_CMP Baseline Filing—RS 46 Minnkota-MISO Coor Opr Agr Amendment to be effective 7/25/2016.

Filed Date: 7/15/16.

Accession Number: 20160715-5176.

Comments Due: 5 p.m. ET 8/5/16.

Docket Numbers: ER16-1797-001.

Applicants: Midcontinent Independent System Operator, Inc.

Description: Tariff Amendment: 2016-07-15_CMP Baseline Filing—MISO-SPP JOA Amendment to be effective 7/25/2016.

Filed Date: 7/15/16.

Accession Number: 20160715-5175.

Comments Due: 5 p.m. ET 8/5/16.

Docket Numbers: ER16-1798-001.

Applicants: Midcontinent Independent System Operator, Inc.

Description: Tariff Amendment: 2016-07-15_CMP Baseline Filing—MISO-PJM JOA Amendment to be effective 7/25/2016.

Filed Date: 7/15/16.

Accession Number: 20160715-5179.

Comments Due: 5 p.m. ET 8/5/16.

Docket Numbers: ER16-2202-000.

Applicants: Montour, LLC.

Description: Compliance filing: Montour, LLC Informational Filing In ER15-2187 to be effective 10/1/2016.

Filed Date: 7/15/16.

Accession Number: 20160715-5087.

Comments Due: 5 p.m. ET 8/5/16.

Docket Numbers: ER16-2203-000.

Applicants: Montour, LLC.

Description: Compliance filing: Montour, LLC Informational Filing In ER15-2188 to be effective 10/1/2016.

Filed Date: 7/15/16.

Accession Number: 20160715-5089.

Comments Due: 5 p.m. ET 8/5/16.

Docket Numbers: ER16-2207-000.

Applicants: H.A. Wagner LLC.

Description: Compliance filing: H.A. Wagner Informational Filing to be effective 10/1/2016.

Filed Date: 7/15/16.

Accession Number: 20160715-5118.

Comments Due: 5 p.m. ET 8/5/16.

Docket Numbers: ER16-2208-000.

Applicants: Pedricktown Cogeneration Company LP.

Description: Compliance filing: Pedricktown Cogeneration Informational Filing, Waiver Request, etc. to be effective 10/1/2016.

Filed Date: 7/15/16.

Accession Number: 20160715-5119.

Comments Due: 5 p.m. ET 8/5/16.

Docket Numbers: ER16-2209-000.

Applicants: Brandon Shores LLC.

Description: Compliance filing: Brandon Shores Informational Filing to be effective 10/1/2016.

Filed Date: 7/15/16.

Accession Number: 20160715-5121.

Comments Due: 5 p.m. ET 8/5/16.

Docket Numbers: ER16-2216-000.

Applicants: Energetix DE, LLC.

Description: Tariff Cancellation: Notice of Cancellation to be effective 8/31/2016.

Filed Date: 7/15/16.

Accession Number: 20160715-5174.

Comments Due: 5 p.m. ET 8/5/16.

Docket Numbers: ER16-2217-000.

Applicants: Logan Generating Company, L.P.

Description: Baseline eTariff Filing: Reactive Tariff to be effective 9/1/2016.

Filed Date: 7/15/16.

Accession Number: 20160715-5178.

Comments Due: 5 p.m. ET 8/5/16.

Docket Numbers: ER16-2218-000.

Applicants: North American Power Business, LLC.

Description: Baseline eTariff Filing: MBR Application to be effective 9/14/2016.

Filed Date: 7/15/16.

Accession Number: 20160715-5180.

Comments Due: 5 p.m. ET 8/5/16.

Docket Numbers: ER16-2219-000.

Applicants: Chief Conemaugh Power, LLC.

Description: Compliance filing: Informational Filing in ER15-2187 to be effective 10/1/2016.

Filed Date: 7/15/16.

Accession Number: 20160715-5181.

Comments Due: 5 p.m. ET 8/5/16.

Docket Numbers: ER16-2220-000.

Applicants: Chief Keystone Power, LLC.

Description: Compliance filing: Informational Filing in ER15-2188 to be effective 10/1/2016.

Filed Date: 7/15/16.

Accession Number: 20160715-5182.

Comments Due: 5 p.m. ET 8/5/16.

Docket Numbers: ER16-2221-000.

Applicants: PJM Interconnection, L.L.C.

Description: § 205(d) Rate Filing: Amendment to WMPA No. 3203, W3-079, among PJM, Marina Energy and JCPL to be effective 10/27/2014.

Filed Date: 7/18/16.

Accession Number: 20160718-5035.

Comments Due: 5 p.m. ET 8/8/16.

Docket Numbers: ER16-2222-000.

Applicants: Alcoa Power Generating Inc.

Description: Baseline eTariff Filing: Long Sault Division Proposed Initial Open Access Transmission Tariff to be effective 9/17/2016.

Filed Date: 7/18/16.

Accession Number: 20160718-5051.

Comments Due: 5 p.m. ET 8/8/16.

Docket Numbers: ER16-2223-000.

Applicants: Alcoa Power Generating Inc.

Description: Baseline eTariff Filing: Tapoco Division Proposed Initial Open Access Transmission Tariff to be effective 9/17/2016.

Filed Date: 7/18/16.

Accession Number: 20160718-5052.

Comments Due: 5 p.m. ET 8/8/16.

The filings are accessible in the Commission's eLibrary system by clicking on the links or querying the docket number.

Any person desiring to intervene or protest in any of the above proceedings must file in accordance with Rules 211 and 214 of the Commission's Regulations (18 CFR 385.211 and 85.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2016.
Nathaniel J. Davis, Sr.,
Deputy Secretary.

[FR Doc. 2016-17525 Filed 7-25-16; 8:45 am]

BILLING CODE 6717-01-P